TENNESSEE VALLEY AUTHORITY

Meeting of the Regional Resource Stewardship Council

AGENCY: Tennessee Valley Authority (TVA).

ACTION: Notice of meeting.

SUMMARY: The TVA Regional Resource Stewardship Council (RRSC) will hold a meeting on Tuesday, June 6 and Wednesday, June 7, 2017, to consider various matters.

The RRSC was established to advise TVA on its natural resource stewardship activities. Notice of this meeting is given under the Federal Advisory Committee Act (FACA).

DATES: The public meeting will be held on Tuesday, June 6, 2017, from 8:30 a.m. to 11:45 a.m., EDT, and Wednesday, June 7, 2017, from 8:30 a.m. to 11:30 a.m., EDT.

ADDRESSES: The meeting will be held at 400 West Summit Hill Drive, Knoxville, Tennessee 37902, and will be open to the public. Anyone needing special access or accommodations should let the contact below know at least a week in advance.

FOR FURTHER INFORMATION CONTACT: Barbie Perdue, 400 West Summit Hill Drive, WT-9 D, Knoxville, Tennessee 37902, (865) 632-6113.

SUPPLEMENTARY INFORMATION: The meeting agenda includes the following:

1. Introductions

2. Updates on Natural Resources and River Management Issues

3. Presentations regarding the economic benefits of TVA's management of Public Land and Waters

4. Public Comments

5. Council Discussion and Advice

The RRSC will hear opinions and views of citizens by providing a public comment session starting at 9:00 a.m. EDT, lasting up to one hour, on Wednesday, June 7, 2017, TVA will provide time limits for public comment once registered. Persons wishing to speak are requested to register at the door between 7:45 a.m. and 8:45 a.m., EDT, on Wednesday, June 7, 2017, and will be called on during the public comment period. Handout materials should be limited to one printed page. Written comments are also invited and may be mailed to the Regional Resource Stewardship Council, Tennessee Valley Authority, 400 West Summit Hill Drive, WT-9 D, Knoxville, Tennessee 37902.

Dated: May 12, 2017.
Joseph J. Hoagland,
Vice President, Enterprise Relations and Innovation, Tennessee Valley Authority.

[FR Doc. 2017-10416 Filed 5-24-17; 8:45 am]

BILLING CODE 8120-08-P